DEPARTMENT OF HOMELAND SECURITY

Coast Guard

[CGD17-06-001]

Implementation of Sector Anchorage

AGENCY: Coast Guard, DHS.

ACTION: Notice of organizational change.

SUMMARY: The Coast Guard announces the stand-up of Sector Anchorage. The creation of Sector Anchorage is an internal reorganization that combines Marine Safety Office Anchorage with all prior subordinate units in addition to USCGC LONG ISLAND, USCGC MUSTANG, USCGC ROANOKE ISLAND, and Station Valdez into a single command. In addition, a Sector Field Office has been created to provide remote logistics support at Valdez, Alaska named Sector Field Office Valdez, which will be subordinate to Sector Anchorage. The Coast Guard has established a continuity of operations whereby all previous practices and procedures will remain in effect until superseded by an authorized Coast Guard official or document.

DATES: This notice is effective August 3, 2006.

ADDRESSES: Documents indicated in this preamble as being available in the docket are part of docket CGD17 and are available for inspection or copying at Commander (dr), Seventeenth Coast Guard District, 709 West 9th Street, Room 771, Juneau, Alaska, 99802 between 9 a.m. and 4 p.m., Monday through Friday, except Federal holidays.

FOR FURTHER INFORMATION CONTACT: LCDR Carl Hinshaw, Assistant Branch Chief for Enforcement, Seventeenth District Response Division at 907-463-2284.

SUPPLEMENTARY INFORMATION:

Discussion of Notice

Sector Anchorage is located at 510 L Street, Suite 100, Anchorage, Alaska 99501-1946. A Sector Field Office (SFO) will be created to provide remote logistics support at Valdez, AK named SFO Valdez. MSO Anchorage OPFAC 17-33280 will be cancelled. A Command Center supporting Sector Anchorage will be located at Anchorage, AK.

Sector Anchorage will be composed of a Response Department, Prevention Department and a Logistics Department. The Sector Command Center, Intelligence staff and Contingency Planning and Force Readiness staff will report directly to the Sector Commander and serve the Response, Prevention, and Logistics components. The Western Alaska Marine Inspection Zone and Captain of the Port Office are located in Anchorage, Alaska. MSO Valdez will be renamed Marine Safety Unit (MSU) Valdez and retain the authorities of Captain of the Port (COTP), Officer in Charge Marine Inspection (OCMI), Federal on Scene Coordinator (FOSC), and Federal Maritime Security Coordinator (FMSC). MSU Valdez will report directly to the Sector Commander. Vessel Traffic Service (VTS) Prince William Sound, a subunit of MSU Valdez, will be renamed VTS Valdez. SFO Valdez will report directly to the Sector Logistics Department. All existing missions and functions performed by MSO Anchorage will be realigned under this new organizational structure. The new Sector's area of responsibility for search and rescue (SAR) will be maintained in accordance with the District SAR plan.

We projected that by 2007, all existing administrative and operational missions and functions performed by Marine Safety Office Anchorage and prior subordinate units will be performed by Sector Anchorage. Administrative missions and functions performed by USCGC LONG ISLAND, USCGC MUSTANG, USCGC ROANOKE ISLAND, and Station Valdez will be performed by Sector Anchorage. All operational missions and functions performed by USCGC LONG ISLAND, USCGC MUSTANG, USCGC ROANOKE ISLAND, and Station Valdez will be assumed by Sector Anchorage upon stand up of a single Command Center at Sector Anchorage.

Sector Anchorage is responsible for all Coast Guard missions in the following zone: The Western Alaska Marine Inspection Zone and COTP Zone comprise that portion of the State of Alaska and the adjacent waters to the outermost extent of the EEZ, except for those sections of Alaska described in 33 CFR 3.85-10(b) and 3.85-20(b).

In the Prince William Sound Marine Inspection Zone and COTP zone (sub-zone), Marine Safety Unit (MSU) Valdez is responsible for the Coast Guard missions of Officer in Charge of Marine Inspection (OCMI), Federal Maritime Security Coordinator (FMSC), Federal On Scene Coordinator (FOSC), and COTP duties in the Prince William Sound Marine Inspection ‘sub-zone’ and COTP ‘sub-zone’ described as follows: The Prince William Sound Marine Inspection sub-zone and Captain of the Port sub-zone comprise the area within the boundary, which starts at Cape Puget at 148°26′ W. longitude, 59°56.06′ N. latitude, and proceeds northerly to 61°30′ N. latitude; thence easterly to the United States-Canadian boundary; thence southerly along the United States-Canadian boundary to 60°18.7′ N. latitude; thence southwesterly to the sea at 60°01.3′ N. latitude, 142°00′ W. longitude; thence southerly along 142°00′ W. longitude to the outermost boundary of the EEZ; thence along the outermost boundary of the EEZ to 148°26′ N. longitude; thence northerly along 148°26′ W. longitude to the place of origin at Cape Puget at 59°56.06′ N. latitude.

The Sector Anchorage Commander is vested with all the rights, responsibilities, duties, and authority of a Group Commander and Commanding Officer, Marine Safety Office, as provided for in Coast Guard regulations, and is the successor in command to the Commanding Officer of Marine Safety Office Anchorage. Under Operating Facility Change Order (OFCO) No. 028-06, the Sector Anchorage Commander is designated:

• Captain of the Port (COTP) for the Western Alaska COTP zone;

• Federal Maritime Security Coordinator (FMSC);

• Federal On Scene Coordinator (FOSC) for the Western Alaska COTP zone, consistent with the National Contingency Plan;

• Officer in Charge of Marine Inspection (OCMI) for the Southeast Alaska Marine Inspection Zone; and

• Search and Rescue Mission Coordinator (SMC).

The Deputy Sector Commander is designated alternate COTP, FMSC, FOSC, SMC, and Acting OCMI.

A continuity order was issued ensuring that all previous Marine Safety Office Anchorage practices and procedures will remain in effect until superseded by Commander, Sector Anchorage. This continuity of operations order addressed existing COTP regulations, orders, directives, and policies.

The following information is updated address and point of contact to facilitate requests from the public and assist with entry into security or safety zones:

Name: Sector Anchorage.

Address: Commander, U.S. Coast Guard Sector Anchorage, 510 L Street, Suite 100, Anchorage, Alaska 99501-1946

Telephone: General Number, (907) 271-6700

Dated: July 21, 2006.
Arthur E. Brooks,
Rear Admiral, U.S. Coast Guard, Commander, Seventeenth Coast Guard District.

[FR Doc. E6-12531 Filed 8-2-06; 8:45 am]

BILLING CODE 4910-15-P